DEPARTMENT OF DEFENSE

Office of the Secretary

Privacy Act of 1974; System of Records

AGENCY: Defense Finance and Accounting Service, DoD.

ACTION: Notice to delete systems of records.

SUMMARY: The Defense Finance and Accounting Service is deleting a system of records notice from its existing inventory of records systems subject to the Privacy Act of 1974 (5 U.S.C. 552a), as amended.

DATES: This proposed action will be effective without further notice on October 9, 2009 unless comments are received which result in a contrary determination.

ADDRESSES: Defense Finance and Accounting Service, Corporate Communications and Legislative Liaison, (DFAS-HAC/IN), 8899 E. 56th Street, Indianapolis, IN 46249-0150.

FOR FURTHER INFORMATION CONTACT: Ms. Linda Krabbenhoft at (720) 242-6631.

SUPPLEMENTARY INFORMATION: The Defense Finance and Accounting Service systems of records notices subject to the Privacy Act of 1974, (5 U.S.C. 552a), as amended, have been published in the Federal Register and are available from the address above.

The Defense Finance and Accounting Service proposes to delete a system of records notice from its inventory of record systems subject to the Privacy Act of 1974 (5 U.S.C. 552a), as amended. The proposed deletion is not within the purview of subsection (r) of the Privacy Act of 1974 (5 U.S.C. 552a), as amended, which requires the submission of a new or altered system report.

Dated: September 3, 2009.
Patricia L. Toppings,
OSD Federal Register Liaison Officer, Department of Defense.

T7401

System name:

Standard Accounting, Budgeting, and Reporting System (SABRS) (July 9, 2007, 72 FR 37203).

Reason: The records contained in this system of records can no longer be retrieved by the individual's name, Social Security Number, or other personal identifier and therefore, are no longer subject to the Privacy Act of 1974 (5 U.S.C. 552a), as amended. Since the system is no longer subject to the Privacy Act, it is being deleted from the Defense Finance and Accounting Service existing inventory of systems of records notices.

Accordingly, this Privacy Act System of Records Notice should be deleted.

[FR Doc. E9-21749 Filed 9-8-09; 8:45 am]

BILLING CODE 5001-06-P